DEPARTMENT OF ENERGY

Federal Energy Regulatory Commission

[Docket No. RM11-12-000]

Availability of E-Tag Information to Commission Staff; Notice Specifying Webregistry Code

In Order No. 771,¹ the Federal Energy Regulatory Commission amended its regulations to grant the Commission access, on a non-public and ongoing basis, to the complete electronic tags (e-Tags) used to schedule the transmission of electric power in wholesale markets. Order No. 771 requires e-Tag Authors (through their Agent Service) and Balancing Authorities (through their Authority Service) to take appropriate steps to ensure Commission access to the e-Tags covered by this Final Rule by designating the Commission as an addressee on the e-Tags.

¹ Availability of E-Tag Information to Commission Staff, 77 FR 76367 (Dec. 28, 2012), FERC Stats. & Regs. ¶ 31,339 (Dec. 20, 2012).

In Order No. 771, the Commission stated that, “following issuance of this Final Rule and the Commission's registration in the OATI webRegistry, the Commission will issue a notice specifying which entity code should be used to ensure that the Commission is an addressee on the e-Tag”.² The Commission has registered in the OATI webRegistry as a Purchasing-Selling Entity under the entity code “FERC.” This code should be used to designate the Commission as an addressee to comply with 18 CFR 366.2(d) (2012) of the Commission's regulations.

² Id. at n.103.

Dated: February 26, 2013.
Kimberly D. Bose,
Secretary.

[FR Doc. 2013-05119 Filed 3-5-13; 8:45 am]

BILLING CODE 6717-01-P